DEPARTMENT OF COMMERCE

International Trade Administration

[C-570-942]

Certain Kitchen Appliance Shelving and Racks From the People's Republic of China: Final Results of Countervailing Duty Administrative Review; 2011

AGENCY: Enforcement and Compliance, formerly Import Administration, International Trade Administration, Department of Commerce.

SUMMARY: The Department of Commerce (Department) completed its administrative review of the countervailing duty (CVD) order on certain kitchen appliance shelving and racks from the People's Republic of China (PRC) for the period January 1, 2011, through December 31, 2011. The final net subsidy rate for New King Shan (Zhu Hai) Co., Ltd. (NKS) is listed below in the section entitled “Final Results of the Review.”

DATES: Effective Date: March 17, 2014.

FOR FURTHER INFORMATION CONTACT: Jennifer Meek or Josh Morris, Office of AD/CVD Operations, Office I, Enforcement and Compliance, International Trade Administration, U.S. Department of Commerce, 14th Street and Constitution Avenue NW., Washington, DC 20230; telephone: (202) 482-2778 and (202) 482-1779, respectively.

Background

Following the Preliminary Results,¹ the Department sent a supplemental questionnaire to NKS regarding the Exemption from City Maintenance and Construction Taxes and Education Fee Surcharges for Foreign Invested Enterprises (FIEs) in Guandong Province program. NKS submitted its timely response on November 6, 2013. The Department completed a post-preliminary analysis memorandum on December 17, 2013.² NKS submitted a case brief on December 27, 2013. SSW Holding Company, Inc. and Nashville Wire Products, Inc. (collectively “Petitioners”) submitted a rebuttal brief on January 3, 2014.

¹ See Certain Kitchen Appliance Shelving and Racks from the People's Republic of China: Countervailing Duty Administrative Review; 2011, 78 FR 63166 (October 23, 2013) (Preliminary Results).

² See Memorandum to Ronald K. Lorentzen, Acting Assistant Secretary for Enforcement and Compliance, through Christian Marsh, Deputy Assistant Secretary for Antidumping and Countervailing Duty Operations, through Thomas Gilgunn, Acting Office Director, Office I, Antidumping and Countervailing Duty Operations, from Jennifer Meek, Office I, Antidumping and Countervailing Duty Operations, regarding, “Countervailing Duty Administrative Review: Certain Kitchen Appliance Shelving and Oven Racks from the People's Republic of China: Post-Preliminary Analysis Memorandum,” (December 17, 2013).

As explained in the memorandum from the Assistant Secretary for Enforcement and Compliance, the Department exercised its discretion to toll deadlines for the duration of the closure of the Federal Government from October 1, through October 16, 2013.³ Therefore, all deadlines in this segment of the proceeding have been extended by 16 days. Since the new deadline fell on a non-business day, in accordance with the Department's practice, the revised deadline for the final results of this review was modified to March 10, 2014.

³ See Memorandum for the Record from Paul Piquado, Assistant Secretary for Enforcement and Compliance, “Deadlines Affected by the Shutdown of the Federal Government” (October 18, 2013).

Scope of the Order

The scope of the order covers shelving and racks for refrigerators, freezers, combined refrigerator-freezers, other refrigerating or freezing equipment, cooking stoves, ranges, and ovens. The merchandise subject to the order is currently classifiable under the Harmonized Tariff Schedule of the United States (HTSUS) numbers 8418.99.80.50, 7321.90.50.00, 7321.90.60.40, 7321.90.60.90, 8418.99.80.60, 8419.90.95.20, 8516.90.80.00, and 8516.90.80.10. Although the HTSUS subheadings are provided for convenience and customs purposes, the written product description remains dispositive.

A full description of the scope of the order is contained in the memorandum from Christian Marsh, Deputy Assistant Secretary for Antidumping and Countervailing Duty Operations to Paul Piquado, Assistant Secretary for Enforcement and Compliance, “Decision Memorandum for Final Results for the Countervailing Duty Administrative Review: Kitchen Appliance Shelving and Racks from the People's Republic of China,” dated concurrently with this notice (Issues and Decision Memorandum), and which is hereby adopted by this notice.

Analysis of Comments Received

All issues raised in the parties' briefs are addressed in the Issues and Decision Memorandum. A list of the issues raised is attached to this notice as an Appendix. The Issues and Decision Memorandum is a public document and is on file electronically via Enforcement and Compliance's Antidumping and Countervailing Duty Centralized Electronic Service System (IA ACCESS). IA ACCESS is available to registered users at http://iaaccess.trade.gov and in the Central Records Unit, Room 7046 of the main Department of Commerce building. In addition, a complete version of the Issues and Decision Memorandum can be accessed directly on the Internet at http://enforcement.trade.gov/frn/. The signed Issues and Decision Memorandum and the electronic versions of the Issues and Decision Memorandum are identical in content.

Methodology

The Department conducted this review in accordance with section 751(a)(1)(A) of the Tariff Act of 1930, as amended (Act). A full description of the methodology underlying all of the Department's conclusions, including our decision to apply facts otherwise available with an adverse inference, is presented in the Issues and Decision Memorandum.

Final Results of the Review

In accordance with 19 CFR 351.221(b)(5), we calculated the subsidy rate shown below for the mandatory respondent, NKS:

Producer/exporter | Net subsidy rate (%)
New King Shan (Zhu Hai) Co., Ltd. | 8.52

Assessment Rates

The Department intends to issue appropriate assessment instructions directly to U.S. Customs and Border Protection (CBP) 15 days after publication of these final results of review, to liquidate shipments of subject merchandise by NKS entered, or withdrawn from warehouse, for consumption on or after January 1, 2011, through December 31, 2011, at the ad valorem assessment rate listed above.

Cash Deposit Instructions

The Department also intends to instruct CBP to collect cash deposits of estimated countervailing duties in the amount shown above on shipments of subject merchandise by NKS entered, or withdrawn from warehouse, for consumption on or after the date of publication of the final results of this review. For all non-reviewed companies, we will instruct CBP to continue to collect cash deposits of estimated countervailing duties at the most recent company-specific or all-others rate applicable to the company. Accordingly, the cash deposit rates that will be applied to companies covered by this order, but not examined in this review, are those established in the most recently completed segment of the proceeding for each company. These cash deposit requirements, when imposed, shall remain in effect until further notice.

Administrative Protective Order

This notice serves as a reminder to parties subject to administrative protective order (APO) of their responsibility concerning the disposition of proprietary information disclosed under APO in accordance with 19 CFR 351.305(a)(3). Timely written notification of return or destruction of APO materials or conversion to judicial protective order is hereby requested. Failure to comply with the regulations and the terms of an APO is a sanctionable violation.

We are issuing and publishing these results in accordance with sections 751(a)(1) and 777(i)(1) of the Act.

Dated: March 10, 2014.
Paul Piquado,
Assistant Secretary for Enforcement and Compliance.

Appendix

List of Topics Discussed in the Issues and Decision Memorandum:

1. Summary

2. Period of Review

3. Scope of the Order

4. Attribution of Subsidies

5. Allocation of Subsidies

6. Subsidies Valuation Information—Benchmarks

7. Use of Facts Otherwise Available and Adverse Inferences

8. Developments Since the Preliminary Results

9. Analysis of Programs

10. Analysis of Comments

Comment 1: Benchmark Calculation for the Wire Rod for Less Than Adequate Remuneration (“LTAR”) Program

Comment 2: Inclusion of VAT in the Wire Rod for LTAR Benchmark Calculation

[FR Doc. 2014-05832 Filed 3-14-14; 8:45 am]

BILLING CODE 3510-DS-P